DEPARTMENT OF JUSTICE

[OMB Number 1121-0364]

Agency Information Collection Activities; Proposed Collection Comments Requested; Revision of Currently Approved Collection: Annual Survey of Jails in Indian Country

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. The proposed information collection was previously published in the Federal Register Volume 88, Number 29, pages 9306 and 9307, on February 13, 2023, allowing a 60-day comment period.

DATES: Comments are encouraged and will be accepted for 30 days until May 30, 2023.

FOR FURTHER INFORMATION CONTACT: If you have comments especially on the estimated public burden or associated response time, suggestions, or need a copy of the proposed information collection instrument with instructions or additional information, please contact Todd D. Minton, Bureau of Justice Statistics, 810 Seventh Street NW, Washington, DC 20531 (email: Todd.Minton@usdoj.gov; telephone: 202-598-7226).

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a currently approved collection.

2. Title of the Form/Collection: Annual Survey of Jails in Indian Country (SJIC).

3. Agency form number, if any, and the applicable component of the Department of Justice sponsoring the collection: The form number is CJ-5B: Annual Survey of Jails in Indian Country (SJIC). The applicable component within the Department of Justice is the Bureau of Justice Statistics (BJS), in the Office of Justice Programs.

4. Affected public who will be asked or required to respond, as well as a brief abstract:

Affected Public: State, Local and Tribal Governments.

Abstract: BJS has conducted the SJIC since 1998 (excluding 2005 and 2006). The survey asks about the number of adults and juveniles held, sex of inmates, conviction status, seriousness of inmates' offenses, number of admissions and releases, number of inmate deaths, average daily population, peak population, capacity of facility, and jail staffing. This collection is the only national effort devoted to describing and understanding annual changes in the Indian country jail population. The collection enables BJS, tribal correctional authorities and administrators, legislators, researchers, and jail planners to track growth in the number of jails and their capacities nationally, as well as to track changes in the demographics and supervision status of the Indian country jail population and the prevalence of crowding.

5. Total Estimated Number of Respondents: 80.

6. Total Estimated Number of Responses: 80.

7. Time per Response: 75 minutes.

8. Total Estimated Annual Time Burden: 100 hours.

9. Total Estimated Annual Other Costs Burden: $0.

If additional information is required, contact: John R. Carlson, Department Clearance Officer, Policy and Planning Staff, Justice Management Division, United States Department of Justice, Two Constitution Square, 145 N Street NE, 4W-218, Washington, DC 20530.

Dated: April 24, 2023.
John R. Carlson,
Department Clearance Officer for PRA, U.S. Department of Justice.

[FR Doc. 2023-08988 Filed 4-27-23; 8:45 am]

BILLING CODE 4410-18-P